UNITED STATES INSTITUTE OF PEACE

Notice of Meeting

Agency: United States Institute of Peace.

Date/Time: Thursday, October 16, 2008, 9:30 a.m.-3:30 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: October 16, 2008 Board Meeting; Approval of Minutes of the One Hundred Thirtieth Meeting (June 6, 2008) of the Board of Directors; Chairman's Report; Presidents Report; Election of Officers; Selection of National Peace Essay contest topics; Fellow's Report; Other General Issues.

Contact: Tessie F. Higgs, Executive Office, Telephone: (202) 429-3836.

Dated: September 26, 2008.
Michael Graham,
Acting Executive Vice President, United States Institute of Peace.

[FR Doc. E8-23164 Filed 10-1-08; 8:45 am]

BILLING CODE 6820-AR-M